DEPARTMENT OF TRANSPORTATION

Federal Motor Carrier Safety Administration

49 CFR Parts 385 and 390

[Docket No. FMCSA-97-2180; formerly FHWA-97-2180]

RIN 2126-AA07

Federal Motor Carrier Safety Regulations: Hazardous Materials Safety Permits; Correction

AGENCY: Federal Motor Carrier Safety Administration (FMCSA), DOT.

ACTION: Proposed Rule; correction.

SUMMARY: This document corrects the CFR text to a proposed rule published in the Federal Register on August 19, 2003, regarding Hazardous Materials Safety Permits. The CFR text includes multiple incorrect cross-references to § 385.403(a) and a single incorrect cross-reference to § 385.405(e). This action corrects these errors.

FOR FURTHER INFORMATION CONTACT: Mr. James Simmons, (202) 493-0496.

Correction

In proposed rule FR Doc. 03-49737, beginning on page 49737 in the issue of August 19, 2003, make the following corrections, in the CFR text. On page 49752 in the first column, in § 385.401, in the ninth paragraph, under the Safety permit definition, on line 5, remove “§ 385.403(a)” and add, in its place, “§ 385.403.”

On page 49752 in the third column, in § 385.407, paragraph (b)(2), on line 4, remove “§ 385.403(a)” and add, in its place, “§ 385.403.”

On page 49753 in the first column, in § 385.415, paragraph (a), on line 5, paragraph (c)(1), on line 4, and paragraph (c)(2), on line 7, remove “§ 385.403(a)” and add, in its place, “§ 385.403.”

On page 49753 in the third column, in § 385.417, on line 4, remove “§ 385.403(a)” and add, in its place, “§ 385.403.”

On page 49754 in the first column, in § 385.421, paragraph (a)(2), on line 6, remove “§ 385.405(e)” and add, in its place, “§ 385.405(d).”

On page 49754 in the first column, in § 385.421, paragraphs (a)(5) and (a)(7), on line 9, remove “§ 385.403(a)” and add, in its place, “§ 385.403.”

On page 49755 in the third column, in § 390.3, paragraph (g)(1), on line 3, and paragraph (g)(4), on line 4, remove “§ 385.403(a)” and add, in its place, “§ 385.403.”

Dated: September 3, 2003.
Annette M. Sandberg,
Administrator.

[FR Doc. 03-23187 Filed 9-10-03; 8:45 am]

BILLING CODE 4910-EX-P